DEPARTMENT OF DEFENSE

Department of the Army; Corps of Engineers

Notice of Availability of the Final 1999 Programmatic Environmental Impact Statement for the Dredged Material Management Plan for the Port of New York and New Jersey

AGENCY: Department of the Army, U.S. Army Corps of Engineers, DoD.

ACTION: Notice; extension of comment period.

SUMMARY: The comment period for the Final 1999 Programmatic Environmental Impact Statement for the Dredged Material Management Plan for the Port of New York and New York published in the Federal Register on Monday, December 22, 2008 (73 FR 78338), required comments be submitted by 45 days (February 1, 2009) following publication in the Federal Register. The comment period has been extended to 60 days (April 3, 2009).

FOR FURTHER INFORMATION CONTACT: Christopher Ricciardi, Telephone (917) 790-8630.

Brenda S. Bowen,
Army Federal Register Liaison Officer.

[FR Doc. E9-2806 Filed 2-9-09; 8:45 am]

BILLING CODE 3720-58-P